DEPARTMENT OF HEALTH AND HUMAN SERVICES

Agency for Healthcare Research and Quality

Notice of AHRQ SEP Meetings—Change of Time and Date

The original AHRQ Notice of Meetings was published in the Federal Register (FR), July 31, 2003, Volume 68, Number 147, Page 44951. However, there are changes that need to be made to the September 4, 2003 meeting. See specifics on changes below:

Change: 4. SEP Meeting on: Sale Practices Implementation Challenge Grants. Date: September 4-5, 2003 (open on September 4 from 8 a.m. to 8:15 a.m. and closed for the remainder of the meeting).

To: 4. SEP Meeting on: Sale Practices Implementation Challenge Grants. Date: September 3, 2003 (open on September 3 from 6 p.m. to 6:15 p.m. and closed for the remainder of the meeting).

There are no changes to the location of this meeting.

Dated: August 14, 2003.
Carolyn M. Clancy,
Director.

[FR Doc. 03-21556 Filed 8-22-03; 8:45 am]

BILLING CODE 4160-90-M